DEPARTMENT OF ENERGY

Federal Energy Regulatory Commission

[Project No. 5698-022]

Triton Power Company; Notice Soliciting Applications

On December 31, 2020, Triton Power Company, licensee for the Chateaugay High Falls Hydroelectric Project No. 5698 (project), filed a Notice of Intent (NOI) to file an application for a new license for the project pursuant to section 15(b)(1) of the Federal Power Act (FPA).¹ On February 26, 2021, Commission staff issued public notice of the NOI and approved the use of the traditional licensing process to develop the license application. The current license for the project expires on December 31, 2025.²

¹ 16 U.S.C. 808(b)(1).

² Triton Power Company, 34 FERC ¶ 61,055 (1986).

The 1,710-kilowatt (kW) project is located on the Chateaugay River in Franklin County, New York. The project consists of: (1) an 82-foot-long, 56-foot-high concrete and masonry dam; (2) an intake structure equipped with a trashrack with 1-inch clear bar spacing and a 9-foot-wide, 9-foot-high sluice gate, located approximately 130 feet upstream of the dam; (3) an impoundment with a surface area of 2.9 acres at an elevation of 962.7 feet mean sea level; (4) a 6-foot-diameter, 480-foot-long steel penstock; (5) a 50-foot-wide, 40-foot-long concrete powerhouse containing a 1,260-kW turbine-generator unit and a 450-kW turbine-generator unit; (6) a tailrace; (7) a 1,020-foot-long, 4.16-kilovolt transmission line; and (8) appurtenant facilities. From 2010, through 2019, the project had an average annual energy production of 6,751 megawatt-hours.

Pursuant to section 15(c)(1) of the FPA ³ and section 16.9 of the Commission's regulations,⁴ an existing licensee must file an application for a new license at least 24 months prior to the expiration of the current license. As stated above, Triton Power Company's NOI indicated that it would file an application for a new license; however, it did not file an application for a new license for the project by the December 31, 2023 deadline.

³ 16 U.S.C. 808(c)(1).

⁴ 18 CFR 16.9 (2023).

Therefore, pursuant to section 16.25(a) of the Commission's regulations, we are soliciting applications from potential applicants other than the existing licensee.⁵ Interested parties have 90 days from the date of this notice to file a NOI to file an application for a new license. An application for a new license for the project may be filed within 18 months of the date of filing the NOI. The existing licensee is prohibited from filing an application either individually or in combination with other entities.⁶

⁵ Id. § 16.25(a).

⁶ Id. § 16.24(a)(2).

Questions concerning this notice should be directed to Arash Barsari at (202) 502-6207 or email at Arash.JalaliBarsari@ferc.gov.

Dated: January 12, 2024.
Debbie-Anne A. Reese,
Acting Secretary.

[FR Doc. 2024-01036 Filed 1-18-24; 8:45 am]

BILLING CODE 6717-01-P